DEPARTMENT OF COMMERCE

Foreign-Trade Zones Board

[Order No. 1740]

Approval of Manufacturing Authority, Foreign-Trade Zone 134, Volkswagen Group of America Chattanooga Operations, LLC (Motor Vehicles), Chattanooga, TN

Pursuant to its authority under the Foreign-Trade Zones Act of June 18, 1934, as amended (19 U.S.C. 81a-81u) (the Act), the Foreign-Trade Zones Board (the Board) adopts the following Order:

Whereas, the Chattanooga Chamber Foundation, grantee of FTZ 134, has requested manufacturing authority on behalf of Volkswagen Group of America Chattanooga Operations, LLC, within FTZ 134—Site 3, Chattanooga, Tennessee (FTZ Docket 35-2009, filed 8-19-2009);

Whereas, notice inviting public comment has been given in the Federal Register (74 FR 43670, 8-27-2009) and the application has been processed pursuant to the FTZ Act and the Board's regulations; and,

Whereas, the Board adopts the findings and recommendations of the examiner's report, and finds that the requirements of the FTZ Act and the Board's regulations would be satisfied, and that the proposal would be in the public interest if subject to the restriction listed below;

Now, therefore, the Board hereby orders:

The application for manufacturing authority under zone procedures within FTZ 134 on behalf of Volkswagen Group of America Chattanooga Operations, LLC, as described in the application and Federal Register notice, is approved, subject to the FTZ Act and the Board's regulations, including Section 400.28, and further subject to the following condition:

VGACO must admit all foreign man-made fiber and cotton bags (HTSUS Subheadings 4202.12.8030, 4202.12.8070, 6305.20), netting (5608.19, 5608.90), sun blinds (6306.19), felt (5602.90) and cushions (9404.90) to the zone under privileged foreign status (19 CFR 146.41) or domestic (duty-paid) status (19 CFR 146.43).

Signed at Washington, DC, this 10th day of February 2011.
Ronald K. Lorentzen,
Deputy Assistant Secretary for Import Administration, Alternate Chairman, Foreign-Trade Zones Board.

ATTEST:

Andrew McGilvray,
Executive Secretary.

[FR Doc. 2011-4175 Filed 2-23-11; 8:45 am]

BILLING CODE P